DEPARTMENT OF ENERGY

Federal Energy Regulatory Commission

[Docket No. EL14-58-000]

Midwest Independent Transmission System Operator, Inc.; Notice of Institution of Section 206 Proceeding and Refund Effective Date

On June 30, 2014, the Commission issued an order in Docket No. EL14-58-000, pursuant to section 206 of the Federal Power Act (FPA), 16 U.S.C. 824e (2012), instituting an investigation into the justness and reasonableness of Midwest Independent Transmission System Operator, Inc.'s (MISO) allocation of voltage or local reliability- related revenue sufficiency guarantee costs to pseudo-tied load. Midwest Indep. Transmission Sys. Operator, Inc., 147 FERC ¶ 61, 262 (2014).

The refund effective date in Docket No. EL14-58-000, established pursuant to section 206(b) of the FPA, will be the date of publication of this notice in the Federal Register.

Dated: June 30, 2014.
Kimberly D. Bose,
Secretary.

[FR Doc. 2014-16019 Filed 7-8-14; 8:45 am]

BILLING CODE 6717-01-P